DEPARTMENT OF HOMELAND SECURITY

Coast Guard

33 CFR Part 100

[Docket Number USCG-2024-0766]

RIN 1625-AA08

Special Local Regulation; Galveston Channel, Galveston, TX

AGENCY: Coast Guard, DHS.

ACTION: Temporary final rule.

SUMMARY: The Coast Guard is establishing a special local regulation for navigable waters within the Galveston Ship Channel. The special local regulation is needed to safely align and navigate vessels for the Texian Navy Day Parade. Entry of non-participants into the pre-staging and parade transit zones is prohibited unless specifically authorized by the Captain of the Port, Sector Houston-Galveston (COTP). Those in the regulated area must comply with all lawful orders or directions given to them by the COTP or the designated representative.

DATES: This rule is effective from 8 a.m. to 1 p.m. on September 21, 2024.

ADDRESSES: To view documents mentioned in this preamble as being available in the docket, go to https://www.regulations.gov, type USCG-2024-0766 in the search box and click “Search.” Next, in the Document Type column, select “Supporting & Related Material.”

FOR FURTHER INFORMATION CONTACT: If you have questions about this rule, call or email Lieutenant Ignacio J. Fernández-Cuervo, Marine Safety Unit Texas City, Waterways Management Division, U.S. Coast Guard; telephone (281) 309-1617, email MSUTexasCityWaterways@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard is issuing this temporary rule under authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because the final rule would not be completed prior to the event start date. Failure to establish these regulated areas would create a hazard to navigation for vessels transiting through the Galveston Channel during the event. It is impracticable to publish an NPRM because we must establish the regulated areas by September 21, 2024.

Under 5 U.S.C. 553(d)(3), the Coast Guard finds that good cause exists for making this rule effective less than 30 days after publication in the Federal Register. Delaying the effective date of this rule would be impracticable because prompt action is needed to ensure vessel traffic safety on the day of the event.

III. Legal Authority and Need for Rule

The Coast Guard is issuing this rule under authority in 46 U.S.C. 70041. The Captain of the Port Sector Houston-Galveston (COTP) has determined that potential hazards associated with the boat parade on September 21, 2024 will be a safety concern for anyone within a 200-yard radius of the parade in the Galveston Channel. This rule is needed to protect personnel, vessels, and the marine environment in the navigable waters within the regulated areas while the parade is ongoing.

IV. Discussion of the Rule

This rule establishes a special local regulation from 8 a.m. to 1 p.m. on September 21, 2024. The special local regulation will encompass three zones to include a Pre-Staging Zone, Spectator Zone, and Parade Transit Zone as described below:

Pre-Staging Zone: This area is the pre-staging area for participating vessels to line up. It will include all waters within a 200-yard radius of 29°20′23″ N, 094°46′37″ W.

Spectator Zone: All vessels that will be viewing the event will be required to stay within a designated area. The sponsor is responsible for marking the spectator zone with 4 buoys on the outer corners and ensuring that all vessels within the area are anchored and remain in the area during parade transit. The following coordinates are the approximate location of the Spectator Zone: 29°19′17″ N, 094°46′36″ W, thence to 29°19′37″ N, 094°46′53″ W, and both points connecting to the eastern shore.

Parade Transit Zone: This area is exclusive to vessels participating in the parade. It will include all waters within the following areas: 29°19′07.02″ N, 094°47′10.98″ W, thence to 29°18′55.43″ N, 094°47′04.23″ W, thence to 29°20′29.45″ N, 094°46′14.18″ W, thence to 29°20′32.68″ N, 094°46′29.94″ W, and along the shore line back to the beginning point.

All non-participants will be prohibited from entering the established pre-staging and parade transit zones without obtaining permission from the on-water Safety Officer or designated representative. To seek permission to enter, contact the COTP or the COTP's representative by VHF Radio Channel 12. Those in the regulated area must comply with all lawful orders or directions given to them by the COTP or the designated representative.

The term “designated representative” means Coast Guard Patrol Commanders, including Coast Guard coxswains, petty officers, and other officers operating Coast Guard vessels, and Federal, state, and local officers designated by or assisting the Captain of the Port Houston-Galveston in the enforcement of the regulated areas.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time-of-day of this special local regulation. Vessel traffic will be able to safely transit around the regulated areas which would impact a small, designated area of the Galveston Channel for less than five hours. The Coast Guard will issue a Broadcast Notice to Mariners via VHF-FM marine channel 16 about the zone, and the rule will allow vessels to seek permission to enter the regulated areas.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

While some owners or operators of vessels intending to transit the safety zone may be small entities, for the reasons stated in section V.A. above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves a marine event and special local regulation lasting only five hours that will prohibit entry within 200 yards of the vessel staging area, parade transit zone and designate a vessel spectator zone. It is categorically excluded from further review under paragraph L61 of Appendix A, Table 1 of DHS Instruction Manual 023-01-001-01, Rev. 1.

G. Protest Activities

The Coast Guard respects the First Amendment rights of protesters. Protesters are asked to call or email the person listed in the FOR FURTHER INFORMATION CONTACT section to coordinate protest activities so that your message can be received without jeopardizing the safety or security of people, places, or vessels.

List of Subjects in 33 CFR Part 100

Harbors, Marine Safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T08-0766 to read as follows:

§ 100.T08-0766 Texian Navy Boat Parade; Galveston Channel, Galveston, TX.

(a) Regulated areas. (1) Pre-Staging Zone comprised of all waters of Galveston Channel surrounding 29°20′23″ N, 094°46′37″ W, from surface to bottom, in a radius 200 yards. These coordinates are based on chart 11330.

(2) Spectator Zone comprised of all waters of Galveston Channel from surface to bottom located within the following coordinates: 29°19′17″ N, 094°46′36″ W, thence to 29°19′37″ N, 094°46′53″ W, and both points connecting to the eastern shore. These coordinates are based on chart 11330.

(3) Parade Transit Zone comprised of all waters of Galveston Channel from surface to bottom located within the following coordinates: 29°19′07.02″ N, 094°47′10.98″ W, thence to 29°18′55.43″ N, 094°47′04.23″ W, thence to 29°20′29.45″ N, 094°46′14.18″ W, thence to 29°20′32.68″ N, 094°46′29.94″ W, and along the shore line back to the beginning point. These coordinates are based on chart 11330.

(b) Definitions. As used in this section, designated representative means a Coast Guard Patrol Commander, including a Coast Guard coxswain, petty officer, or other officer operating a Coast Guard vessel and a Federal, State, and local officer designated by or assisting the Captain of the Port Sector Houston-Galveston (COTP) in the enforcement of the regulations in this section.

(c) Regulations. (1) All non-participants are prohibited from entering, transiting through, anchoring in, or remaining within the pre-staging and parade transit zones described in paragraph (a) of this section unless authorized by the COTP or their designated representative.

(2) To seek permission to enter, contact the COTP or the COTP's representative by VHF Radio Channel 12. Those in the regulated area must comply with all lawful orders or directions given to them by the COTP or the designated representative.

(3) The COTP will provide notice of the regulated area through advanced notice via broadcast notice to mariners and by on-scene designated representatives.

(d) Enforcement period. This section will be enforced from 8 a.m. to 1 p.m. on September 21, 2024.

Dated: August 28, 2024.
Keith M. Donohue,
Captain, U.S. Coast Guard, Captain of the Port Sector Houston-Galveston.

[FR Doc. 2024-19908 Filed 9-4-24; 8:45 am]

BILLING CODE 9110-04-P